DEPARTMENT OF AGRICULTURE

Agricultural Marketing Service

[Docket No. AMS-ST-08-0028]

Plant Variety Protection Board; Open Teleconference Meeting

AGENCY: Agricultural Marketing Service, USDA.

ACTION: Notice of teleconference meeting.

SUMMARY: This notice sets forth the schedule and proposed agenda of a forthcoming teleconference meeting of the Plant Variety Protection Board. Notice of this meeting is required under section 10(a)(2) of the Federal Advisory Committee Act. This document is intended to notify the general public of their opportunity to attend the meeting.

DATES: May 1, 2008; 1 p.m.-3 p.m. Eastern Daylight Time.

ADDRESSES: The meeting will be held in the United States Department of Agriculture, Agricultural Marketing Service Conference Room, Room 3074, South Building, 1400 Independence Avenue, SW., Washington, DC 20250.

FOR FURTHER INFORMATION CONTACT: Janice M. Strachan, Plant Variety Protection Office (PVPO), Science and Technology Programs, Agricultural Marketing Service, United States Department of Agriculture, telephone number (301) 504-5518, fax (301) 504-5291, or e-mail PVPOmail@usda.gov.

SUPPLEMENTARY INFORMATION: The Plant Variety Protection (PVP) Board is authorized under section 7 of the Plant Variety Protection Act (7 U. S. C. 2327). The Board advises the Secretary of Agriculture on rules and regulations implementing the Act. On May 1, 2008, the Board will conduct a teleconference meeting to discuss improving the Plant Variety Protection Office Application Process and other related topics.

The tentative agenda for the teleconference meeting includes: (1) Welcome and opening remarks; (2) Action on general recommendations from Board minutes of November 14 and 15, 2007 meeting; (3) Financial status of the PVP Office, (4) PVP Office information technology infrastructure, and (5) Adjournment.

The public may attend the teleconference at the following address: USDA's Agricultural Marketing Service Conference Room, Room 3074, South Building, 1400 Independence Avenue, SW., Washington, DC 20250. All attendees are required to register with the PVP Office at 301-504-5518 before April 30, 2008. Identification will be required to be admitted to the USDA's South Building.

This meeting is physically accessible to people with disabilities. Requests for sign language interpretation should be directed to the person listed under FOR FURTHER INFORMATION CONTACT. Minutes of the teleconference will be posted on the Internet Web site http://www.ams.usda.gov/PVPO.

Dated: April 16, 2008.
Lloyd C. Day,
Administrator, Agricultural Marketing Service.

[FR Doc. E8-8553 Filed 4-18-08; 8:45 am]

BILLING CODE 3410-02-P